INTERNATIONAL TRADE COMMISSION

[Investigation Nos. 701-TA-452 and 731-TA-1129-1130 (Third Review)]

Raw Flexible Magnets From China and Taiwan

Determinations

On the basis of the record ¹ developed in the subject five-year reviews, the United States International Trade Commission (“Commission”) determines, pursuant to the Tariff Act of 1930 (“the Act”), that revocation of the countervailing duty order on raw flexible magnets from China and revocation of the antidumping duty orders on raw flexible magnets from China and Taiwan would be likely to lead to continuation or recurrence of material injury to an industry in the United States within a reasonably foreseeable time.²

¹ The record is defined in § 207.2(f) of the Commission's Rules of Practice and Procedure (19 CFR 207.2(f)).

² Commissioner Jason E. Kearns did not participate.

Background

The Commission instituted these reviews on June 3, 2024 (89 FR 47607) and determined on September 6, 2024, that it would conduct expedited reviews (89 FR 81938, October 9, 2024).

The Commission made these determinations pursuant to section 751(c) of the Act (19 U.S.C. 1675(c)). It completed and filed its determinations in these reviews on December 20, 2024. The views of the Commission are contained in USITC Publication 5574 (December 2024), entitled Raw Flexible Magnets from China and Taiwan: Investigation Nos. 701-TA-452 and 731-TA-1129-1130 (Third Review).

By order of the Commission.
Issued: December 20, 2024.
Lisa Barton,
Secretary to the Commission.

[FR Doc. 2024-31085 Filed 12-26-24; 8:45 am]

BILLING CODE 7020-02-P